ENVIRONMENTAL PROTECTION AGENCY

[EPA-HQ-OPPT-2020-0262; FRL-10013-38-OMS]

Information Collection Request Submitted to OMB for Review and Approval; Comment Request; Asbestos Abatement Worker Protection (Renewal)

AGENCY: Environmental Protection Agency (EPA).

ACTION: Notice.

SUMMARY: The Environmental Protection Agency (EPA) has submitted an information collection request (ICR), Asbestos Abatement Worker Protection (EPA ICR Number 1246.14, OMB Control Number 2070-0072) to the Office of Management and Budget (OMB) for review and approval in accordance with the Paperwork Reduction Act. This is a proposed extension of the ICR, which is currently approved through December 31, 2020. Public comments were previously requested via the Federal Register on May 20, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 30, 2020.

ADDRESSES: Submit your comments, referencing Docket ID No. EPA-HQ-OPPT-2020-0262 to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sarah Cox, National Program Chemicals Division, Office of Pollution Prevention and Toxics, Environmental Protection Agency, 1200 Pennsylvania Ave. NW, Washington, DC 20460; telephone number: (202) 564-3961; email address: cox.sarah@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The 2000 Asbestos Worker Protection Rule (40 CFR part 763, subpart G) (hereafter referred to as the “2000 WPR,” or simply “WPR”) establishes workplace standards for the protection of state and local government employees who work with asbestos and who are not covered by a state plan approved by the Occupational Safety and Health Administration (OSHA). Currently, state and local government employees in 24 states, the District of Columbia (DC), and three additional U.S. territories (DC and the territories are counted as one “state equivalent”) who perform construction work, including building construction, renovation, demolition, and maintenance activities, and employees who perform brake and clutch repair work, are covered by EPA's WPR. The WPR incorporates, by reference, the OSHA Construction Industry Standard for Asbestos (29 CFR part 1926.1101) and the General Industry Standard for Asbestos (29 CFR part 1910.1001). As a result, the WPR requires state and local government employers to use engineering controls and appropriate work practices to control the release of asbestos fibers. Covered employers must monitor employee exposure to asbestos and provide employees with personal protective equipment, training, and medical surveillance to reduce the risk of asbestos exposure. Exposure monitoring records must be maintained for 30 years, medical surveillance records for the duration of employment of the affected employees plus 30 years, and training records for the duration of employment plus one year. Employers must also establish written respiratory protection programs and maintain procedures and records of respirator fit tests for one year.

The ICR, which is available in the docket along with other related materials, provides a detailed explanation of the collection activities and the burden estimate that is only briefly summarized here:

Form Numbers: None.

Respondents/Affected Entities: States and local government employers in the 24 states, DC, and the U.S. territories of American Samoa, Guam, and the Northern Mariana Islands that have employees engaged in asbestos-related construction, custodial, and brake and clutch repair activities without OSHA-approved state plans.

Respondent's obligation to respond: Mandatory (40 CFR 763 Subpart G)

Estimated number of respondents: 23,437 (total).

Frequency of response: On occasion.

Total estimated burden: 372,969 hours (per year). Burden is defined at 5 CFR 1320.03(b).

Total estimated cost: $16,894,178 (per year), includes $0 annualized capital or operation & maintenance costs.

Changes in the estimates: There is no change in the burden hours compared with the ICR currently approved by OMB.

Courtney Kerwin,
Director, Regulatory Support Division.

[FR Doc. 2020-24127 Filed 10-29-20; 8:45 am]

BILLING CODE 6560-50-P